DEPARTMENT OF TRANSPORTATION

Federal Aviation Administration

14 CFR Part 39

[Docket No. FAA-2012-0600; Directorate Identifier 2012-SW-017-AD; Amendment 39-17076; AD 2012-11-12]

RIN 2120-AA64

Airworthiness Directives; AGUSTA S.p.A. Helicopters

AGENCY: Federal Aviation Administration (FAA), Department of Transportation (DOT).

ACTION: Final rule; request for comments.

SUMMARY: We are adopting a new airworthiness directive (AD) for Agusta S.p.A. (Agusta) Model AW139 helicopters to determine if the hardware that attaches the upper end of collective control rod C2 to torque tube C3 is properly installed. This AD is prompted by the discovery of an incorrectly-attached collective control rod. These actions are intended to prevent separation of the collective control rod from the torque tube, loss of control of the collective pitch, and subsequent loss of control of the helicopter.

DATES: This AD becomes effective July 3, 2012.

The Director of the Federal Register approved the incorporation by reference of a certain publication listed in this AD as of July 3, 2012.

We must receive comments on this AD by August 17, 2012.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket: You may examine the AD docket on the Internet at http://www.regulations.gov or in person at the Docket Operations Office between 9 a.m. and 5 p.m., Monday through Friday, except Federal holidays. The AD docket contains this AD, the economic evaluation, any comments received, and other information. The street address for the Docket Operations Office (telephone 800-647-5527) is in the ADDRESSES section. Comments will be available in the AD docket shortly after receipt.

For service information identified in this AD, contact Agusta Westland, Customer Support & Services, Via Per Tornavento 15, 21019 Somma Lombardo (VA) Italy, ATTN: Giovanni Cecchelli; telephone 39-0331-711133; fax 39 0331 711180; or at http://www.agustawestland.com/technical-bullettins. You may review the referenced service information at the FAA, Office of the Regional Counsel, Southwest Region, 2601 Meacham Blvd., Room 663, Fort Worth, Texas 76137.

FOR FURTHER INFORMATION CONTACT: Sharon Miles, Aviation Safety Engineer, Regulations and Policy Group, Rotorcraft Directorate, FAA, 2601 Meacham Blvd., Fort Worth, TX 76137; telephone (817) 222 5110; email sharon.y.miles@faa.gov.

SUPPLEMENTARY INFORMATION:

Comments Invited

This AD is a final rule that involves requirements affecting flight safety, and we did not provide you with notice and an opportunity to provide your comments prior to it becoming effective. However, we invite you to participate in this rulemaking by submitting written comments, data, or views. We also invite comments relating to the economic, environmental, energy, or federalism impacts that resulted from adopting this AD. The most helpful comments reference a specific portion of the AD, explain the reason for any recommended change, and include supporting data. To ensure the docket does not contain duplicate comments, commenters should send only one copy of written comments, or if comments are filed electronically, commenters should submit them only one time. We will file in the docket all comments that we receive, as well as a report summarizing each substantive public contact with FAA personnel concerning this rulemaking during the comment period. We will consider all the comments we receive and may conduct additional rulemaking based on those comments.

Discussion

The European Aviation Safety Agency (EASA), which is the Technical Agent for the Member States of the European Union, has issued EASA AD No. 2011-0226-E, dated December 2, 2011 (EASA AD 2011-0226-E), to correct an unsafe condition for the Agusta AW139 helicopters. EASA advises that an occurrence of incorrect installation of a collective control rod has been reported. This improper installation was identified on an in-service helicopter during the first annual inspection.

The subsequent investigation by the manufacturer led it to conclude that this discrepancy could affect other helicopters because the production quality control procedures did not require recording the applied torque on the bolt attaching the collective control rod to the torque tube. To address this unsafe condition, AgustaWestland issued Bollettino Tecnico (BT) No. 139-275, dated December 1, 2011, (BT 139-275) and EASA issued AD 2011-0226-E to require an inspection of the attaching point of the flight control rod to the torque tube and if improperly installed, reinstalling the parts.

This condition, if not detected and corrected, could lead to in-flight separation of the collective control rod from the torque tube, loss of control of the collective pitch, and subsequent loss of control of the helicopter.

FAA's Determination

These helicopters have been approved by the aviation authority of Italy and are approved for operation in the United States. Pursuant to our bilateral agreement with Italy, the EASA, its technical representative, has notified us of the unsafe condition described in the EASA AD. We are issuing this AD because we evaluated all information provided by the EASA and determined the unsafe condition is likely to exist or develop on other helicopters of the same type design.

Related Service Information

We reviewed BT 139-275, which contains procedures to inspect for the proper installation of control rod C2 in the roof area and to ensure that the attaching hardware that connects the control rod to the torque tube is properly installed.

AD Requirements

This AD requires:

• Within 5 hours time-in-service or 7 days, whichever occurs earlier, visually inspecting the connection between control rod C2 and torque tube C3 for the proper installation of the bolt, washers, self locking nut, and cotter pin.

• If the installed hardware is not as prescribed in this AD, before further flight, re-installing control rod C2 with the correct bolt, washers, self locking nut, and cotter pin.

Costs of Compliance

We estimate that this AD will affect 1 helicopter of U.S. Registry. We estimate that this operator may incur the following costs in order to comply with this AD. Inspecting and reassembling the control rod will require about 8 work hours at an average labor rate of $85 per hour, for a total cost per helicopter of $680. Any required parts costs are minimal.

FAA's Justification and Determination of the Effective Date

Providing an opportunity for public comments prior to adopting these AD requirements would delay implementing the safety actions needed to correct this known unsafe condition. Therefore, we find that the risk to the flying public justifies waiving notice and comment prior to the adoption of this rule because the required corrective actions must be accomplished within 5 hours time-in-service, a very short time period based on the average flight-hour utilization rate of these helicopters.

Since an unsafe condition exists that requires the immediate adoption of this AD, we determined that notice and opportunity for public comment before issuing this AD are impracticable and that good cause exists for making this amendment effective in less than 30 days.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national Government and the States, or on the distribution of power and responsibilities among the various levels of government.

For the reasons discussed, I certify that this AD:

1. Is not a “significant regulatory action” under Executive Order 12866;

2. Is not a “significant rule” under DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2012-11-12 AGUSTA S.P.A.: Amendment 39-17076; Docket No. FAA-2012-0600; Directorate Identifier 2012-SW-017-AD.

(a) Applicability

This AD applies to Agusta S.p.A. (Agusta) Model AW139 helicopters, serial number (S/N) 31306, 31314, 31317, 31319, 31320, 31322, 31323, and S/N 31325 through 31345 (except S/N 31329, 31333, 31338, 31339, and 31341), certificated in any category.

(b) Unsafe Condition

This AD defines the unsafe condition as an incorrectly installed collective control rod, which could result in detachment of the collective control rod, resulting in subsequent loss of control of the helicopter.

(c) Effective Date

This AD becomes effective July 3, 2012.

(d) Compliance

You are responsible for performing each action required by this AD within the specified compliance time unless it has already been accomplished prior to that time.

(e) Required Actions

(1) Within 5 hours time-in-service (TIS) or 7 days, whichever occurs earlier, inspect the connection between the collective control rod C2 and the torque tube C3 for proper installation of the: bolt, part number (P/N) NAS6604D15; washer under the bolt head, P/N A160A0432K; self-locking nut, P/N MS17825-4; washer under the self-locking nut, P/N NAS1149D0432K; and the cotter pin, P/N MS24655-136, as depicted in Figures 1 and 2, of Agusta Bollettino Tecnico No. 139-275, dated December 1, 2011, (ABT 139-275).

(2) If the connection between the collective control rod C2 and the torque tube C3 is not as depicted in Figures 1 and 2 of ABT 139-275, before further flight, properly connect control rod C2 to torque tube C3. In order to obtain the correct bolt grip length and cotter pin installation, you may use a maximum of 2 washers, P/N NAS1149D0432K, under the self-locking nut.

(f) Alternative Methods of Compliance (AMOCs)

(1) The Manager, Safety Management Group, FAA, may approve AMOCs for this AD. Send your proposal to: Sharon Miles, Aviation Safety Engineer, Regulations and Policy Group, Rotorcraft Directorate, FAA, 2601 Meacham Blvd., Fort Worth, TX 76137; telephone (817) 222-5110; email sharon.y.miles@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(g) Additional Information

The subject of this AD is addressed in European Aviation Safety Agency AD No. 2011-0226-E, dated December 2, 2011.

(h) Subject

Joint Aircraft Service Component (JASC) Code: 6710: Main Rotor Control.

(i) Material Incorporated by Reference

(1) The Director of the Federal Register approved the incorporation by reference (IBR) of the following service information under 5 U.S.C. 552(a) and 1 CFR part 51.

(2) You must use the following service information to do the actions required by this AD, unless the AD specifies otherwise.

(3) The following service information was approved for IBR on July 3, 2012.

(i) Agusta Bollettino Tecnico No. 139-275, dated December 1, 2011.

(4) For service information identified in this AD, contact Agusta Westland, Customer Support & Services, Via Per Tornavento 15, 21019 Somma Lombardo (VA) Italy, ATTN: Giovanni Cecchelli; telephone 39-0331-711133; fax 39 0331 711180; or at http://www.agustawestland.com/technical-bullettins.

(5) You may review the referenced service information at the FAA, Office of the Regional Counsel, Southwest Region, 2601 Meacham Blvd., Room 663, Fort Worth, Texas 76137 or at the National Archives and Records Administration (NARA). For information on the availability of this material at NARA, call (202) 741-6030, or go to: http://www.archives.gov/federal_register/code_of_federal_regulations/ibr_locations.html.

Issued in Fort Worth, Texas, on May 30, 2012.
Lance T. Gant,
Acting Manager, Rotorcraft Directorate, Aircraft Certification Service.

[FR Doc. 2012-14385 Filed 6-15-12; 8:45 am]

BILLING CODE 4910-13-P